DEPARTMENT OF VETERANS AFFAIRS

[OMB Control No. 2900-0554]

Proposed Information Collection (Homeless Providers Grant and Per Diem Program) Activity; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on the information needed to determine an applicant's eligibility to receive a grant and/or per diem for programs to assist homeless veterans' transition to independent living and to determine if the grantee is meeting the objectives outlined in the original grant application.

DATES: Written comments and recommendations on the proposed collection of information should be received on or before August 31, 2012.

ADDRESSES: Submit written comments on the collection of information through Federal Docket Management System (FDMS) at www.Regulations.gov; or to Cynthia Harvey-Pryor, Veterans Health Administration (10P7BFP), Department of Veterans Affairs, 810 Vermont Avenue NW., Washington, DC 20420; or email: cynthia.harvey-pryor@va.gov. Please refer to “OMB Control No. 2900-0554” in any correspondence. During the comment period, comments may be viewed online through the FDMS.

FOR FURTHER INFORMATION CONTACT: Cynthia Harvey-Pryor (202) 461-5870 or Fax (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles

a. Homeless Providers Grant and Per Diem Program, Capital Grant. Application, VA Form 10-0361-CG.

b. Homeless Providers Grant and Per Diem Program, Life Safety Code Application, VA Form 10-0361-LSC.

c. Homeless Providers Grant and Per Diem Program, Per Diem Only Application, VA Form 10-0361-PDO.

d. Homeless Providers Grant and Per Diem Program, Special Needs Application, VA Form 10-0361-SN.

e. Compliance Reports for Per Diem and Special Needs Grants. No form needed. May be reported to VA in standard business narrative.

f. Homeless Providers Grant and Per Diem Program, Technical Assistance Application, VA Form 10-0361-TA.

g. Compliance Reports for Technical Assistance Grants. No form needed. May be reported to VA in standard business narrative.

OMB Control Number: 2900-0554.

Type of Review: Revision of a currently approved collection.

Abstract: VA Form 10-0361 series, Homeless Providers Grant and Per Diem Program, will be used to evaluate applicants eligibility to receive a grant and/or per diem payments, apply the specific criteria to rate and rank each application; and to obtain information necessary to ensure that Federal funds are awarded to applicants who are financially stable and who will conduct the program for which grant and/or per diem award was made.

Affected Public: Not-for-profit institutions.

Estimated Annual Burden:

a. Homeless Providers Grant and Per Diem Program, Capital Grant. Application, VA Form 10-0361-CG—3,500 hours.

b. Homeless Providers Grant and Per Diem Program, Life Safety Code Application, VA Form 10-0361-LSC—2,000 hours.

c. Homeless Providers Grant and Per Diem Program, Per Diem Only Application, VA Form 10-0361-PDO—3,000 hours.

d. Homeless Providers Grant and Per Diem Program, Special Needs Application, VA Form 10-0361-SN—4,000 hours.

e. Compliance Reports for Per Diem and Special Needs Grants—1,500 hours.

f. Homeless Providers Grant and Per Diem Program, Technical Assistance Application, VA Form 10-0361-TA—250 hours.

g. Compliance Reports for Technical Assistance Grants—90 hours.

Estimated Average Burden per Respondent:

a. Homeless Providers Grant and Per Diem Program, Capital Grant Application, VA Form 10-0361-CG—35 hours.

b. Homeless Providers Grant and Per Diem Program, Life Safety Code Application, VA Form 10-0361-LSC—10 hours.

c. Homeless Providers Grant and Per Diem Program, Per Diem Only Application, VA Form 10-0361-PDO—20 hours.

d. Homeless Providers Grant and Per Diem Program, Special Needs Application, VA Form 10-0361-SN—20 hours.

e. Compliance Reports for Per Diem and Special Needs Grants—5 hours.

f. Homeless Providers Grant and Per Diem Program, Technical Assistance Application, VA Form 10-0361-TA—10 hours.

g. Compliance Reports for Technical Assistance Grants—2.25 hours.

Frequency of Response: On occasion.

Estimated Number of Respondents:

a. Homeless Providers Grant and Per Diem Program, Capital Grant Application, VA Form 10-0361-CG—100.

b. Homeless Providers Grant and Per Diem Program, Life Safety Code Application, VA Form 10-0361-LSC—200.

c. Homeless Providers Grant and Per Diem Program, Per Diem Only Application, VA Form 10-0361-PDO—150.

d. Homeless Providers Grant and Per Diem Program, Special Needs Application, VA Form 10-0361-SN—200.

e. Compliance Reports for Per Diem and Special Needs Grants—300.

f. Homeless Providers Grant and Per Diem Program, Technical Assistance Application, VA Form 10-0361-TA—25.

g. Compliance Reports for Technical Assistance Grants—10.

Dated: June 27, 2012.
By direction of the Secretary.
Denise McLamb,
Program Analyst, Enterprise Records Service.

[FR Doc. 2012-16102 Filed 6-29-12; 8:45 am]

BILLING CODE 8320-01-P